DEPARTMENT OF JUSTICE

Notice of Lodging of Consent Decree under the Clean Water Act

Notice is hereby given that on August 22, 2012, a proposed Consent Decree in United States v. Sterling Suffolk Racecourse, LLC, Civil Action No. 12-cv-11556, was lodged with the United States District Court for the District of Massachusetts.

The Consent Decree resolves the United States' claims under Section 301 of the Clean Water Act, 33 U.S.C. 1311, relating to the Defendant's horse racing facility in East Boston and Revere, Massachusetts. The Defendant will pay $1.25 million as a civil penalty and will continue to perform work at the facility, estimated to cost approximately $3.29 million, in order to comply with the anticipated terms of a new National Pollutant Discharge Elimination System Permit. Finally, the Defendant will be responsible for the performance of three Supplemental Environmental Projects with an estimated value of $742,000 that will provide water quality monitoring and protection efforts for the nearby watershed.

The Department of Justice will receive for a period of thirty (30) days from the date of this publication comments relating to the Consent Decree. Comments should be addressed to the Assistant Attorney General, Environment and Natural Resources Division, and either emailed to pubcomment-ees.enrd@usdoj.gov or mailed to P.O. Box 7611, U.S. Department of Justice, Washington, DC 20044-7611, and should refer to the matter as United States v. Sterling Suffolk Racecourse, LLC, D.J. Ref. Number 90-5-1-1-09639.

During the public comment period, the Consent Decree may be examined on the following Department of Justice Web site, http://www.usdoj.gov/enrd/Consent_Decrees.html. A copy of the Consent Decree may also be obtained by mail from the Consent Decree Library, P.O. Box 7611, U.S. Department of Justice, Washington, DC 20044-7611 or by faxing or emailing a request to “Consent Decree Copy” (EESCDCopy.ENRD@usdoj.gov), fax no. (202) 514-0097, phone confirmation number (202) 514-5271. If requesting by mail from the Consent Decree Library a copy of the proposed Consent Decree only, please so note and enclose a check in the amount of $13.75 (25 cents per page reproduction cost for the 55 page proposed Consent Decree) payable to the U.S. Treasury. If you would also like a copy of the attachments to the proposed Consent Decree, please so note and include an additional $13.25 (25 cents per page for the 53 pages of attachments). If requesting by email or fax, forward a check in that amount to the Consent Decree Library at the address given above.

Ronald G. Gluck,
Assistant Section Chief, Environmental Enforcement Section, Environment and Natural Resource Division.

[FR Doc. 2012-21028 Filed 8-24-12; 8:45 am]

BILLING CODE 4410-15-P